DEPARTMENT OF COMMERCE

National Oceanic and Atmospheric Administration

RIN 0648-XA057

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a one-day meeting of its Shrimp Advisory Panel (AP).

DATES: The meeting will convene on Tuesday, March 24, 2020, 8:30 a.m.-3 p.m., EDT. For agenda details, see SUPPLEMENTARY INFORMATION.

ADDRESSES: The meeting will be held at the Gulf Council Headquarters office.

Council address: Gulf of Mexico Fishery Management Council, 4107 W Spruce Street, Suite 200, Tampa, FL 33607; telephone: (813) 348-1630.

FOR FURTHER INFORMATION CONTACT: Dr. Matt Freeman, Economist, Gulf of Mexico Fishery Management Council; matt.freeman@gulfcouncil.org, telephone: (813) 348-1630. The Council's website, www.gulfcouncil.org also has details on the meeting location, proposed agenda, webinar listen-in access, and other materials.

SUPPLEMENTARY INFORMATION: The following items are on the agenda, though agenda items may be addressed out of order (changes will be noted on the Council's website when possible.)

Tuesday, March 24, 2020

Meeting will begin with adoption of agenda, approval of minutes from the March 21, 2019 meeting; and, a review of the scope of work with its members. National Marine Fisheries Service (NMFS) will provide the AP with updated stock assessments, 2018 + preliminary 2019 Gulf shrimp fishery effort and landings, the preliminary 2019 Royal Red index, and the biological review of the Texas closure. NMFS will also discuss the 2019 final rule on modifications to skimmer trawl turtle excluder device (TED) regulations. Gulf Council staff will review Shrimp Fishery Management Plans (FMP) Objectives. The AP will discuss first-hand accounts of changes in the shrimp fishery environment, trends in sales of state shrimp licenses, and any other business items.

—Meeting Adjourns

The meeting will be broadcast via webinar. You may register for the listen-in access by visiting www.gulfcouncil.org and clicking on the AP meeting on the calendar.

The Agenda is subject to change, and the latest version along with other meeting materials will be posted on www.gulfcouncil.org as they become available.

Although other non-emergency issues not on the agenda may come before the group for discussion, in accordance with the Magnuson-Stevens Fishery Conservation and Management Act (Magnuson-Stevens Act), those issues may not be the subject of formal action during this meeting. Actions will be restricted to those issues specifically identified in this notice and any issues arising after publication of this notice that require emergency action under section 305(c) of the Magnuson-Stevens Act, provided the public has been notified of the Council's intent to take action to address the emergency.

Special Accommodations

This meeting is physically accessible to people with disabilities. Requests for sign language interpretation or other auxiliary aids should be directed to Kathy Pereira at the Gulf Council office (see ADDRESSES), at least 5 working days prior to the meeting.

Authority: 16 U.S.C. 1801 et seq.

Dated: February 25, 2020.
Tracey L. Thompson,
Acting Deputy Director, Office of Sustainable Fisheries, National Marine Fisheries Service.

[FR Doc. 2020-04140 Filed 2-27-20; 8:45 am]

BILLING CODE 3510-22-P